DEPARTMENT OF COMMERCE

International Trade Administration

[A-588-806, A-484-801]

Electrolytic Manganese Dioxide From Japan and Greece: Notice of Extension of Time Limits for Preliminary Results of Antidumping Administrative Reviews

AGENCY: Import Administration, International Trade Administration, Department of Commerce.

ACTION: Notice of extension of time limits for preliminary results of antidumping duty administrative reviews.

SUMMARY: The Department of Commerce is extending the time limit for the preliminary results of the antidumping duty administrative reviews of the antidumping duty orders on electrolytic manganese dioxide from Japan and Greece. The period of review is April 1, 1998, through March 31, 1999.

EFFECTIVE DATE: February 8, 2000.

FOR FURTHER INFORMATION CONTACT: Larry Tabash, Hermes Pinilla or Richard Rimlinger, AD/CVD Enforcement, Import Administration, International Trade Administration, U.S. Department of Commerce, 14th Street and Constitution Avenue, NW, Washington, DC 20230; telephone: (202) 482-5047, (202) 482-3477 or (202) 482-4477, respectively.

The Applicable Statute

Unless otherwise indicated, all citations to the statute are references to the provisions effective January 1, 1995, the effective date of the amendments made to the Tariff Act of 1930, as amended (the Act), by the Uruguay Round Agreements Act (URAA). In addition, unless otherwise indicated, all citations to the Department of Commerce's (the Department's) regulations are to 19 CFR Part 351 (1998).

Extension of Time Limits for Preliminary Results

The Department has received a request to conduct administrative reviews of the antidumping duty orders on electrolytic manganese dioxide from Japan and Greece. On May 20, 1999, and June 30, 1999, the Department initiated these administrative reviews covering the period April 1, 1998, through March 31, 1999 (64 FR 28973 and 64 FR 35124, respectively).

On December 28, 1999, we extended the preliminary results for both cases from December 31, 1999, to February 14, 2000. Because it is not practicable to complete these reviews by February 14, 2000, due to the complexity of the issues involved (see Memoranda from Laurie Parkhill to Richard W. Moreland, Extension of Time Limit for Administrative Reviews of Electrolytic Manganese Dioxide from Japan and Greece, February 1, 2000), the Department is extending the time limits for the preliminary results by 75 days from the current deadline of February 14, 2000. Thus, the extended deadline for issuance of the preliminary results is May 1, 2000. The Department intends to issue the final results of reviews 120 days after the publication of the preliminary results. This extension of the time limit is in accordance with section 751(a)(3)(A) of the Act and 19 CFR 351.213(h)(2).

Dated: February 1, 2000.
Richard W. Moreland,
Deputy Assistant Secretary for Import Administration.

[FR Doc. 00-2848 Filed 2-7-00; 8:45 am]

BILLING CODE 3510-DS-P